NUCLEAR REGULATORY COMMISSION

Sunshine Act Meeting

Date: Weeks of October 31, November 7, 14, 21, 28, December 5, 2005.

Place: Commissioners' Conference Room, 11555 Rockville Pike, Rockville, Maryland.

Status: Public and Closed.

Matters to be Considered

Week of October 31, 2005

Tuesday, November 1, 2005.

9:30 a.m.—Briefing on Implementation of Davis-Besse Lessons Learned Task Force (DBLLTF) Recommendations (Public Meeting) (Contact: Brendan Moroney, 301-415-3974).

This meeting will be webcast live at the Web address: http://www.nrc.gov.

Week of November 7, 2005—Tentative

There are no meetings scheduled for the Week of November 7, 2005.

Week of November 14, 2005—Tentative

There are no meetings scheduled for the Week of November 14, 2005.

Week of November 21, 2005—Tentative

Monday, November 21, 2005.

9:30 a.m.—Briefing on Status of New Reactor Issues, Part 1 (Public Meeting) (Contact: Laura Dudes, 301-415-0146).

1:30 p.m.—Briefing on Status of New Reactor Issues, Part 2 (Public Meeting) (Contact Laura Dudes, 301-415-0146).

These meetings will be webcast live at the Web address: http://www.nrc.gov.

Week of November 28, 2005—Tentative

Tuesday, November 29, 2005.

9:30 a.m.—Discussion of Management Issues (Closed-Ex. 2).

Wednesday, November 30, 2005.

9:30 a.m.—Briefing on EEO Program (Public Meeting) (Contact: Corenthis Kelley, 301-415-7380.

This meeting will be webcast live at the Web address: http://www.nrc.gov.

Week of December 5, 2005—Tentative

Thursday, December 8, 2005.

1 p.m.—Meeting with the Advisory Committee on Reactor Safeguards (ACRS) (Contact: John Larkins, 301-415-7360).

This meeting will be webcast live at the Web address: http://www.nrc.gov.

*The schedule for Commission meetings is subject to change on short notice. To verify the status of meetings call (recording)—(301) 415-1292. Contact person for more information Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participaate in these public meetings, or need this meeting notice or the transcript or other information from the public meetings in another format (e.g. braille, large print), please notify the NRC's Disability Program Coordinator, August Spector, at 301-415-7080, TDD: 301-4152100, or by e-mail at aks@nrc.gov. Determinations on requests for reasonable accommodation will be made on case-by-case basis.

* * * * *

This notice is distributed by mail to several hundred subscribers; if you no longer wish to receive it, or would like to be added to the distribution, please contact the Office of the Secretary, Washington, DC 20555 (301-415-1969). In addition, distribution of this meeting notice nover the Internet system is available. If you are interested in receiving this Commission meeting schedule electronically, please send an electronic message to dkw@nrc.gov.

Dated: October 27, 2005.
R. Michelle Schroll,
Office of the Secretary.

[FR Doc. 05-21915 Filed 10-31-05; 9:59 am]

BILLING CODE 7590-01-M